ENVIRONMENTAL PROTECTION AGENCY

[EPA-HQ-OPPT-2020-0413; FRL-12540-01-OMS]

Agency Information Collection Activities; Submission to the Office of Management and Budget for Review and Approval; Comment Request; Toxic Substances Control Act (TSCA) Section 8(b) Reporting Requirements for TSCA Inventory Notifications (Renewal)

AGENCY: Environmental Protection Agency (EPA).

ACTION: Notice.

SUMMARY: The Environmental Protection Agency (EPA) has submitted an information collection request, Toxic Substances Control Act (TSCA) Section 8(b) Reporting Requirements for TSCA Inventory Notifications (EPA ICR Number 2565.05 and OMB Control Number 2070-0201), to the Office of Management and Budget (OMB) for review and approval in accordance with the Paperwork Reduction Act (PRA). This is a proposed extension of the ICR, which is currently approved through January 31, 2025. Public comments were previously requested via the Federal Register on Tuesday, April 23, 2024. This notice allows for an additional 30 days for public comments.

DATES: Comments must be received on or before February 3, 2025.

ADDRESSES: Submit your comments, referencing Docket ID Number EPA-HQ-OPPT-2020-0413, to EPA online using www.regulations.gov (our preferred method) or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Katherine Sleasman, Mission Support Division (7602M), Office of Chemical Safety and Pollution Prevention, Environmental Protection Agency, 1200 Pennsylvania Ave. NW, Washington, DC 20460-0001; telephone number: (202) 566-1204; email address: sleasman.katherine@epa.gov.

SUPPLEMENTARY INFORMATION: This is a request to renew the approval of an ICR currently approved through January 31, 2025. An agency may not conduct or sponsor and a person is not required to respond to a collection of information unless it displays a currently valid OMB control number.

Public comments were previously requested via the Federal Register on Tuesday, April 23, 2024, establishing a 60-day comment period (89 FR 30356 (FRL-11604-01-OCSPP)). This notice allows for an additional 30 days for public comments. Supporting documents, which explain in detail the information collection activities and related estimated burden and costs that are summarized in this document, are available in the docket. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: This ICR addresses the reporting and recordkeeping requirements under TSCA section 8(b) that are associated with the TSCA Chemical Substance Inventory (TSCA Inventory), as codified in 40 CFR part 710. TSCA section 8(b) specifically requires that EPA compile and keep current a list of chemical substances manufactured or processed for commercial purposes in the United States. That mandate was amended in 2016 and TSCA section 8(b)(4) requires EPA to designate chemical substances on the TSCA Chemical Substance Inventory as either “active” or “inactive” in U.S. commerce. The first TSCA Inventory with all chemical substances designated as “active” or “inactive” published in February 2019.

Form number: EPA Form No. 9600-06; Notice of Activity Form B.

Respondents/affected entities: Entities potentially affected by this ICR include North American Industrial Classification System (NAICS) Code 325 Chemical Manufacturers, NACIS Code 324 Petroleum and Coal Products.

Respondent's obligation to respond: Mandatory.

Estimated number of potential respondents: 57.

Frequency of response: On occasion.

Total estimated burden:144 (per year). Burden is defined at 5 CFR 1320.3(b).

Total estimated costs: $19,956.68 (per year), includes no annualized capital investment or maintenance and operational costs.

Changes in the estimates: There is decrease of 90 hours in the total estimated respondent burden compared with that currently approved by OMB. This change, which is discussed in more detail in the ICR, reflects a burden hour reduction related to the time-limited one-time reporting activities which are now discontinued.

Courtney Kerwin,
Director, Information Engagement Division.

[FR Doc. 2024-31516 Filed 1-2-25; 8:45 am]

BILLING CODE 6560-50-P